DEPARTMENT OF TRANSPORTATION

Federal Aviation Administration

RTCA Special Committee 217/EUROCAE Working Group 44: Airport Mapping Databases First Joint Meeting

AGENCY: Federal Aviation Administration (FAA), DOT.

ACTION: Notice of RTCA Special Committee 217/EUROCAE Working Group 44 meeting.

SUMMARY: The FAA is issuing this notice to advise the public of a meeting of RTCA Special Committee 217/EUROCAE Working Group 44: Airport Mapping Databases.

DATES: The meeting will be held May 14-16, 2008, from 9 a.m.-5 p.m.

ADDRESSES: The meeting will be held at EUROCONTROL, Rue de la Fusee, 96, B-1130 Brussels, Belgium.

FOR FURTHER INFORMATION CONTACT: (1) RTCA Secretariat, 1828 L Street, NW., Suite 805, Washington, DC, 20036 telephone (202) 833-9339: fax (202) 833-9434; Web site http://www.rtca.org (2) Mr. Sam van cler Stricht, telephone +32-2-729 3197, fax 32-2-729 9008.

SUPPLEMENTARY INFORMATION: Pursuant to section 10(a) (2) of the Federal Advisory Committee Act (Pub. L. 92-463. 5 U.S.C., Appendix 2), notice is hereby given for a Special Committee 217/EUROCAE Working Group 44 meeting.

• May 14:

• Open Plenary (Chairmen's Remarks and Introductions, Review and Approve Meeting Agenda, Discussion).

• Schedule—Completion in no more than three meetings.

• Schedule for this week.

• Schedule for next meetings.

• Presentations:

• Gap Analysis—ARINC 816 and RTCAIEUROCAE documents;

• Gap Analysis—ATXM and RTCA/EUROCAE documents.

• Begin effort to revise documents.

• May 15:

• Plenary Session.

• May 16:

• Plenary Session.

• Other Business.

• Determine and agree on action plan.

• Meeting Plans and Dates.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC. on April 17, 2008.
Francisco Estrada C.,
RTCA Advisory Committee.

[FR Doc. E8-9044 Filed 4-24-08; 8:45 am]

BILLING CODE 4910-13-M